DEPARTMENT OF HEALTH AND HUMAN SERVICES

Centers for Disease Control and Prevention

[Program Announcement 04232]

Strengthening HIV/AIDS, STI and TB Prevention, Control and Treatment Activities in the Addis Ababa University; Notice of Intent To Fund Single Eligibility Award

A. Purpose

The Centers for Disease Control and Prevention (CDC) announces the intent to fund fiscal year (FY) 2004 funds for a cooperative agreement program to strengthen activities for the prevention, control, and treatment of HIV/AIDS, STI, and TB in the Addis Ababa University (AAU). The Catalog of Federal Domestic Assistance number for this program is 93.941.

B. Eligible Applicant

Assistance will be provided only to the Addis Ababa University (AAU). No other applicants are solicited. The AAU is the only appropriate and qualified organization to conduct the activities supported by the CDC/GAP in Ethiopia because:

1. The AAU and its TAH are uniquely positioned in terms of legal authority, ability, and credibility to supported technical capacity development for HIV/AIDS/STI/TB prevention and control efforts of the country.

2. The AAU is mandated by the Ethiopian Government to provide training for all cadres of health care professionals and health social scientists who are deployed to all regions of the country.

3. As the only National Central Medical Center with the only medical speciality/residency training in the country, the University and its colleges and faculties constitute the oldest and largest training institution, and the most experienced research facility in the country.

4. The University is associated with the Ministry of Education, and works closely with the Ministry of Health and other sector ministries, as well as with a number of regional and international institutions, including U.S. universities.

C. Funding

Approximately $200,000 is available in FY 2004 to fund this award. It is expected that the award will begin on or before September 1, 2004, and will be made for a 12-month budget period within a project period of up to five years. Funding estimates may change.

D. Where To Obtain Additional Information

For general comments or questions about this announcement, contact: Technical Information Management, CDC Procurement and Grants Office, 2920 Brandywine Road, Atlanta, GA 30341-4146, telephone: 770-488-2700.

For program technical assistance, contact: Dr. Tadesse Wuhib, Project Officer, U.S. Embassy, Entoto Road, P.O. Box 1014, Addis Ababa, Ethiopia, telephone: 251-1-669566, e-mail: wuhibt@etcdc.com.

For financial, grants management, or budget assistance, contact: Shirley Wynn, Contract Specialist, CDC Procurement and Grants Office, 2920 Brandywine Road, Atlanta, GA 30341, telephone: 770-488-1515, e-mail: zbx6@cdc.gov.

Dated: July 15, 2004.
William P. Nichols,
Acting Director, Procurement and Grants Office, Centers for Disease Control and Prevention.

[FR Doc. 04-16543 Filed 7-20-04; 8:45 am]

BILLING CODE 4163-18-P